ENVIRONMENTAL PROTECTION AGENCY

[EPA-HQ-OPP-2010-0306; FRL-8838-8]

Resmethrin; Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by the registrants to voluntarily cancel all remaining registrations of products containing the pesticide resmethrin. The requests would terminate all resmethrin products registered for use in the United States. EPA intends to grant these requests at the close of the comment period for this announcement unless the Agency receives substantive comments within the comment period that would merit its further review of the requests, or unless the registrants withdraw their requests. If these requests are granted, any sale, distribution, or use of products listed in this notice will be permitted after the registration has been canceled only if such sale, distribution, or use is consistent with the terms as described in the final order. Resmethrin users or anyone else that desires the retention of a resmethrin registration should contact the applicable registrants during the comment period.

DATES: Comments must be received on or before February 22, 2011.

ADDRESSES: Submit your comments, identified by docket identification (ID) number EPA-HQ-OPP-2010-0306, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0306. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Bonnie Adler, Pesticide Re-evaluation Division (7508P), Office of Pesticide Programs, Environmental Protection Agency, 1200 Pennsylvania Ave., NW., Washington, DC 20460-0001; telephone number: (703) 308-8523; fax number: (703) 308-7070; e-mail address: adler.bonnie@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel Registrations

This notice announces receipt by EPA of requests from registrants to cancel all resmethrin product registrations. Resmethrin is a member of the pyrethroid class of pesticides. It is used to control a broad spectrum of flying and crawling insects in residential, commercial and industrial settings as well as in animal living areas. It is used as a crack and crevice spray and enclosed space fog in food handling establishments. There are no agricultural uses registered for resmethrin.

The registrants have requested voluntary cancellation of these resmethrin containing products due to the pending cancellation of the technical product. The 2006 Resmethirn Reregistration Eligibility Decision (RED), coupled with the costs to satisfy the recently issued Endocrine Disrupter Screening Program (EDSP) testing orders are not justified by the market opportunity in the vector control business segment or other uses for resmethrin. In addition, registrants may not formulate their products, as the technical producer of resmethrin has requested a voluntary cancellation of their technical registration. Resmethrin users or anyone else that desires the retention of a resmethrin registration should contact the applicable registrants during the comment period. The data required to support a resmethrin product are identified in Table 1. In addition, the generic data requirements for resmethrin, which are listed in the Federal Register of May 19, 2010 (75 FR 28019) (FRL-8825-7), would also be required.

Table 1.—Data Required to Support all End Use Products of Resmethrin
2006 Resmethrin RED Data Call-In
830.1550 | Product Identity and Composition
830.1600 | Description of Materials Used to Produce the Product
830.1620 | Description of Production Process
830.1650 | Description of Formulation Process
830.1670 | Discussion of Formation Impurities
830.1700 | Preliminary Analysis
830.1750 | Certified Limits
830.1800 | Enforcement Analytical Method
830.6302 | Color
830.6303 | Physical State
830.6304 | Odor
830.6313 | Stability to Sunlight, Normal & Elevated Temperatures, Metals & Metal Ions
830.6314 | Oxidation/Reduction: Chemical Incompatibility
830.6315 | Flammability/Flame Extension
830.6316 | Explodability
830.6317 | Storage Stability of Product
830.6319 | Miscibility
830.6320 | Corrosion Characteristics
830.6321 | Dielectric Breakdown Voltage
830.7000 | pH of Water Solution or Suspensions
830.7050 | UV/Visible Absorption
830.7100 | Viscosity
830.7200 | Melting Point/Melting Range (only required if product is a solid)
830.7220 | Boiling Point/Boiling Range (only required if product is a liquid)
830.7300 | Density/Relative Density
830.7370 | Dissociation Constants in Water
830.7520 | Particle Size, Fiber Length and Diameter Distribution
830.7550 | Partition Coefficient (N-octanol/water), Shake Flask Method
830.7560 | Partition Coefficient (N-octanol/water), Generator Column Method
830.7570 | Partition Coefficient (N-octanol/water), Estimation by Liquid Chromatography
830.7840 | Water Solubility: Column Elution Method or Shake Flask Method (solubility)
830.7860 | Water Solubility: Generator Column Method (solubility)
830.7950 | Vapor Pressure
870.1100 | Acute Oral Toxicity
870.1200 | Acute Dermal Toxicity
870.1300 | Acute Inhalation Toxicity
870.2400 | Acute Eye Irritation
870.2500 | Acute Dermal Irritation
870.2600 | Skin Sensitization
810.3100 | Soil Treatments for Imported Fire Ants
810.3200 | Livestock, Poultry, Fur- and Wool-Bearing Animal Treatments
810.3300 | Treatments to Control Pests to Humans and Pets
810.3400 | Mosquito, Black Fly and Biting Midge (Sand Fly) Treatments
810.3500 | Premise Treatments
SS-1 | Special Study for Arthropods

In letters received by the Agency, the registrants requested EPA to cancel all pesticide product registrations identified in this notice in Table 2. Specifically, the registrants have requested voluntary cancellation of all remaining products containing resmethrin. This action would terminate the use of resmethrin products registered in the United States including its use as a wide area mosquito abatement insecticide.

III. What Action is the Agency Taking?

This notice announces receipt by EPA of requests from registrants to cancel all remaining registrations of products containing the pesticide resmethrin. The affected products and the registrants making the requests are identified in Tables 2 and 3 of this unit.

Unless a request is withdrawn by the registrant or if the Agency determines that there are substantive comments that warrant further review of this request, EPA intends to issue an order canceling the affected registrations.

Table 2.—Resmethrin Product Registrations with Pending Requests for Cancellation
Registration Number | Product Name | Chemical
000004-00312 | Houseplant Helper | Resmethrin
000004-00337 | Bonide Insect Fog | Resmethrin
000004-00373 | Bonide Flying and Crawling Insect Spray | Resmethrin Piperonyl Butoxide Pyrethrins
000004-00418 | Bonide Pressurized Spray Insecticide 0.25% | Resmethrin
000239-02476 | Othro Systemic Rose & Floral Spray | Resmethrin Acephate Triforine
000419-00178 | Burgess Insect Frog Fogging Insecticide with Pyrethroid | Resmethrin
000432-00555 | SBP-1382 Insecticide 4.22 MF Solvent Dilutable Concentrate Formula I | Resmethrin
000432-00595 | SBP-1382 Insecticide Concentrate 40% Formula I | Resmethrin
000432-00596 | SBP-1382 Insecticide 40 MF Solvent Dilutable Concentrate Formula I | Resmethrin
000432-00634 | Respond with SBP-1382 Liquid Insecticide Spray 0.5% Formula III | Resmethrin
000432-00635 | SBP-1382 3% Multipurpose Spray | Resmethrin
000432-00667 | SCOURGE Insecticide W/ SBP-1382/Piperonyl Butoxide 18% + 54% MF FORM.II | Resmethrin Piperonyl Butoxide
000432-00716 | SCOURGE Insecticide with SPB-1382/Piperonyl Butoxide 4% + 12% MF FII | Resmethrin Piperonyl Butoxide
000432-00719 | SCOURGE Insecticide with SPB-1382/PBO 1.5 + 4.5% Formula II | Resmethrin Piperonyl Butoxide
000432-01097 | SYNTHRIN 40% Mosquito Formulation | Resmethrin
000432-01100 | PY-SY Concentrate Resmethrin | Resmethrin Pyrethrins
000432-01135 | Synthrin .5% Liquid | Resmethrin
000432-01140 | Synthrin Plus Pyrenone 415 M.A.G.C. | Resmethrin Piperonyl Butoxide Pyrethrins
000432-01167 | Turbicide Pest Control System with Synthrin Butacide | Resmethrin Piperonyl Butoxide
000432-01246 | Aqua-Scourge | Resmethrin Piperonyl Butoxide
000498-00116 | Chase-MM Flying Insect Killer Formula 2 | Resmethrin d-trans-Chrysanthemum monocarboxylic ester of dl-2-allyl-4-hydroxy-3-methyl-2-cyclopenten-1-one
000498-00117 | Chase -MM House and Garden Insect Killer Formula 3 | Resmethrin d-trans-Chrysanthemum monocarboxylic ester of dl-2-allyl-4-hydroxy-3-methyl-2-cyclopenten-1-one
000498-00142 | Spray PAK Flea and Tick Killer for Cats & Dogs with Deodorant | Resmethrin
000655-00778 | PRENTOX Resmethrin 3% | Resmethrin
000655-00779 | PRENTOX Resmethrin 0.5% RTU | Resmethrin
000655-00787 | PRENTOX Resmenthin EC3 | Resmethrin
001543-00008 | Absorbine Supershield II Fly Repellent | Resmethrin Butoxypolypropylene glycol
001543-00009 | Absorbine Concentrated Fly Repellent | Resmethrin Butoxypolypropylene glycol
002724-00527 | SPEER Home and Garden Pressurized Spray | Resmethrin d-trans-Chrysanthemum monocarboxylic ester of dl-2-allyl-4-hydroxy-3-methyl-2-cyclopenten-1-one
003862-00080 | TERMINATOR | Resmethrin
005481-00154 | SBP-1382 - 2 E. C. | Resmethrin
007056-00180 | CSA Aerosol Insecticide Formula Seven | Resmethrin
008536-00031 | Premium Grade Card-O-SectT #25 | Resmethrin
008536-00032 | NE-1 Insecticide | Resmethrin
008536-00034 | Cardinal 3% ULV Insecticide | Resmethrin
028293-00095 | Unicorn Thermfog RTU | Resmethrin
028293-00100 | Unicorn Wasp & Hornet Killer | Resmethrin
028293-00107 | Unicorn Liquid Insect Killer No. 2 | Resmethrin
028293-00152 | Unicorn Flea & Tick Spray IV | Resmethrin d-trans-Chrysanthemum monocarboxylic ester of dl-2-allyl-4-hydroxy-3-methyl-2-cyclopenten-1-one
040391-00004 | Resmethrin Insect Spray | Resmethrin
040391-00005 | AUTO FOG-5 | Resmethrin
040391-00011 | AUTO FOG-10 | Resmethrin
040391-00012 | AUTO FOG-30 | Resmethrin
044446-00008 | Duel Flying & Crawling Insect Killer | Resmethrin
044446-00019 | HAWK Thermfog | Resmethrin
045385-00027 | Fogging Insecticide | Resmethrin
045385-00078 | CENOL Mill Spray with SBP-1382 | Resmethrin
045385-00080 | CENOL Kill Quick 2% Emulsifiable Concentrate | Resmethrin
045385-00081 | CENOL Liquid House Plant Insecticide | Resmethrin Piperonyl Butoxide Pyrethrins
046579-00002 | Resmethrin 5 Contact and Space Spray | Resmethrin
046579-00009 | Resmethrin 1 Contact and Space Spray | Resmethrin
046579-00010 | Resmethrin ULV 3-9 Multipurpose Spray | Resmethrin Piperonyl Butoxide
046579-00011 | Resmethrin 5-1.5 Contact and Space Spray | Resmethrin Piperonyl Butoxide
046579-00012 | Resmethrin ULV 3 Multipurpose Spray | Resmethrin
046813-00061 | Wasp & Hornet Killer II | Resmethrin
047000-00079 | Flyers Insecticide | Resmethrin d-trans-Chrysanthemum monocarboxylic ester of dl-2-allyl-4-hydroxy-3-methyl-2-cyclopenten-1-one
047000-00083 | Freez-Kill | Resmethrin
047000-00099 | Flyer's Insecticide | Resmethrin d-trans-Chrysanthemum monocarboxylic ester of dl-2-allyl-4-hydroxy-3-methyl-2-cyclopenten-1-one
047000-00132 | Wasp & Hornet Insect Bomb | Resmethrin
048668-00004 | PPP Flea and Tick Shampoo | Resmethrin
048668-00005 | PPP Flea & Tick Spray | Resmethrin
053883-00147 | Commercial Fogging Spray | Resmethrin
067517-00013 | Space Mist Insecticide | Resmethrin
073049-00078 | SBP-1382 Concentrate 40 | Resmethrin
073049-00079 | SBP-1382 Insecticde Concentrate 15% | Resmethrin
073049-00080 | SBP-1382 Pressurized Wasp & Hornet Spray 0.15% | Resmethrin
073049-00081 | SBP-1382 Aqueous Pressurized Spray Insecticide 0.50% | Resmethrin
073049-00082 | SBP-1382 Insecticide Aqueous Pressurized Spray 0.25% | Resmethrin
073049-00083 | SBP-1382 Insecticide Aqueous Pressurized 0.35% for House & Garden | Resmethrin
073049-00084 | Your Brand SBP-1382 Insecticide Spray 0.10 | Resmethrin
073049-00085 | SBP-1382/Bioallethrin Aqueous Pressurized Spray | Resmethrin d-trans-Chrysanthemum monocarboxylic ester of dl-2-allyl-4-hydroxy-3-methyl-2-cyclopenten-1-one
073049-00086 | SBP-1382 Technical with Antioxidant | Resmethrin
073049-00087 | SBP-1382 Bioallethrin Insecticide Conc. 10% - 7.5% FORMULA I | Resmethrin
073049-00088 | SBP-1382 Aqueous Press Spray Insect. 0.25/House & Garden | Resmethrin
073049-00089 | SBP - 1382 Yard and Patio Outdoor Fogger | Resmethrin
073049-00090 | SBP-1382 Oil Base Insecticide 0-20% | Resmethrin
073049-00091 | Bioresmethrin Liquid Insecticide Spray 0.25% Formula I | Resmethrin
073049-00092 | Your Brand SBP-1382/Bioallethrin (.20% + .125%) Aqueous Press. Spray for H&G | Resmethrin S-Bioallethrin
073049-00095 | SBP-1382/Bioallethrin Insecticide Concentrate 10%-6.25% Formula I | Resmethrin S-Bioallethrin
073049-00097 | SBP-1382 0.35% Space and Residual Aqueous Pressurized Spray | Resmethrin
073049-00098 | SBP-1382 Insecticide Concentrate 12% Formula I with Residual Activity | Resmethrin
073049-00100 | SBP-1382 Insecticide Concentrate 12.5% Formula I | Resmethrin
073049-00101 | SBP-1382 T.E.C. 6% | Resmethrin
073049-00102 | SBP-1382/Bioallethrin Aqueous Pressurized Spray (PD 6.5) | Resmethrin d-trans-Chrysanthemum monocarboxylic ester of dl-2-allyl-4-hydroxy-3-methyl-2-cyclopenten-1-one
073049-00103 | SBP-1382/Bioallethrin Insecticide Concentrate 8%-16% Formula I | Resmethrin S-Bioallethrin
073049-00106 | SBP-1382 Insecticide Transparent Emulsion Spray 0.35% | Resmethrin
073049-00107 | ULTRATEC Insecticide W/SPB-1382 Tran. Emul. Dil. Conc. 2% | Resmethrin
073049-00108 | SBP-1382 Aqueous Pressurized Spray Insecticide 0.25% | Resmethrin
073049-00109 | SBP-1382 Residual Aqueous Presurized Ant and Roach Spray 0.35% | Resmethrin
073049-00110 | SBP-1382 Insecticide Transparent Emulsion Spray 0.25% | Resmethrin
073049-00111 | SBP-1382 Liquid Spray 0.50% | Resmethrin
073049-00112 | SBP-1382 Liquid Insecticide Spray 0.5% Formula I | Resmethrin
073049-00113 | Vectrin Four-Plus-One | Resmethrin Piperoyl Butoxide Pyrethrins
073049-00131 | SBP-1382 Insecticide Emulsifiable Concentrate 26% | Resmethrin
073049-00132 | SBP-1382 Insecticide Emulsfiable 26% Formula I For Repackaging Use | Resmethrin
073049-00133 | SBP-1382 Concentrate 16% Formula III | Resmethrin
073049-00134 | SBP 1382 Insecticide Concentrate 40% Formula II | Resmethrin
073049-00135 | SBP-1382/Esbioallethrin/P.B.O Insecticide Aq. Press Spray 0.20% + 0.10% + | Resmethrin Piperoyl Butoxide d-trans-Chrysanthemum monocarboxylic ester of dl-2-allyl-4-hydroxy-3-methyl-2-cyclopenten-1-one
073049-00140 | Crossfire Concentrate 1 W/SBP-1382/Esbioth./Pip.But. 8.34%-4.17%-16.67% For.I | Resmethrin Piperoyl Butoxide d-trans-Chrysanthemum monocarboxylic ester of dl-2-allyl-4-hydroxy-3-methyl-2-cyclopenten-1-one
073049-00142 | SBP-1382 Oil Base Insecticide 0.20% Formula III | Resmethrin
073049-00143 | SBP-1382 Liquid Insecticide Spray 0.25% Formula III | Resmethrin
073049-00144 | SBP-1382 Insecticide Press. Spray 0.25% Formula III for Wasps & Hornet | Resmethrin
073049-00148 | SBP-1382/Esbiothrin/P.B. Insecticide Conc. 3%-4.5%-18% Formula II | Resmethrin Piperoyl Butoxide d-trans-Chrysanthemum monocarboxylic ester of dl-2-allyl-4-hydroxy-3-methyl-2-cyclopenten-1-one
073049-00164 | Tetralate Butacide (15-7.5-15) W-B Concentrate | Resmethrin Tetramethrin Piperoyl Butoxide
073049-00165 | Tetralate-Butacide Insect Killer WBA N109 | Resmethrin Tetramethrin Piperoyl Butoxide
073049-00190 | SBP-1382/PYR./P.B.O. Transparent Emuls. Spray 0.08 + 0.02 + 0.02% | Resmethrin Piperoyl Butoxide Pyrethrins
073049-00206 | Blanco 0.2 Liquid Insecticide Spray | Resmethrin
073049-00207 | Ford's SBP-1382 Insecticide Transparent Emulsion Spray 0.25% | Resmethrin
073049-00208 | CSA House and Garden Spray | Resmethrin
073049-00209 | Ford's Commercial Spray | Resmethrin
073049-00230 | NIA 17370 Insecticide Spray 0.05 | Resmethrin
073049-00231 | Synthrin Aqueous Pressurized Spray Insecticide 0.50 | Resmethrin
073049-00232 | Synthrin House and Garden Insecticide Spray 0.25% | Resmethrin
073049-00233 | Tetralate 25-10.6 WB | Resmethrin Tetramethrin
073049-00234 | Tetramethrin 2.5 FMC 17370 1.06 DWB Concentrate | Resmethrin Tetramethrin
073049-00255 | Tetralate Multipurpose Insect Killer | Resmethrin Tetramethrin
073049-00259 | Tetralate 2.0-0.44 WB | Resmethrin Tetramethrin
073049-00260 | Tetramethrin 26.64 NIA 17370 5.85 WB Concentrate | Resmethrin Tetramethrin
073049-00262 | Tetralate General Purpose 0.25%-0.25% Insect Killer | Resmethrin Tetramethrin
073049-00263 | Tetralate 2.5-2.5 WB | Resmethrin Tetramethrin
073049-00264 | Tetralate 16.670-7.0655 | Resmethrin Tetramethrin
073049-00265 | Tetralate 20.84-20.84 W.B. | Resmethrin Tetramethrin
073049-00276 | Synthrin House and Garden Insecticide 0.25% | Resmethrin
073049-00357 | SBP-1382 Micro-Min Insecticide Spray 0.5% with Mineral Oil | Resmethrin
073049-00358 | SBP-1382 Insecticide Concentrate 3% | Resmethrin
073049-00372 | Synthrin Technical with Antioxidant Insecticide | Resmethrin
073049-00381 | Exterm-A-Vape | Resmethrin
074621-00002 | Bug Stomper 4-3 | Resmethrin d-trans-Chrysanthemum monocarboxylic ester of dl-2-allyl-4-hydroxy-3-methyl-2-cyclopenten-1-one
081038-00001 | Skeet-Daddle Fogging Insecticide | Resmethrin
082277-00001 | RG Vaporizing Aerosol | Resmethrin
FL 910017 | SBP-1382 Insecticide 40 MF Solvent Dil. Conc. Form. 1 | Resmethrin

Table 3 of this unit includes the names and addresses of record for the registrants of the products listed in Table 2 of this unit, in sequence by EPA company number. This number corresponds to the first part of the EPA registration numbers of the products listed above.

Table 3.—Registrants Requesting Voluntary Cancellation
EPA Company Number | Company Name and Address
000004 | Bonide Products, Inc. Agent Registrations By Design, Inc. P.O. Box 1019 Salem, VA 24153-3805
000239 | The Scotts Company 14111 Scottslawn Road Marysville, OH 43041
000419 | CTX Cenol 7210 Red Rd., Suite 206 A Miami, FL 33143
000432 | Bayer Environmental Science P.O. Box 12014 Research Triangle Park, NC 27709
000498 | Chase Products Co. P.O. Box 70 Maywood, IL 60153
000655 | Prentiss, Inc. 3600 Mansell Rd. Suite 350 Alpharetta, GA 30022
001543 | W.F. Young, Inc. 302 Benton Drive East Longmeadow, MA 01028
002724 | Wellmark International 1501 E. Woodfield Rd, Suite 200 West Schaumburg, IL 60173
003862 | ABC Compounding Co., Inc. P.O. Box 16247 Atlanta, GA 30321-0247
005481 | Amvac Chemical Corporation 4695 MacArthur Court, Suite 1250 Newport Beach, CA 92660
007056 | IQ Products Co. 16212 State Hwy 249 Houston, TX 77086-1014
008536 | Soils Corporation P.O. Box 782 Hollister, CA 95024-0782
028293 | Phaeton Corporation Agent Registrations By Design, Inc. P.O. Box 1019 Salem, VA 24153
040391 | Entech Systems Corporation 509 Tower Valley Drive Hillsboro, MO 63050
044446 | Quest Chemical Corporation 12255 F.M. 529 Northwoods Industrial Park Houston, TX 77041
045385 | CTX Cenol 7210 Red Road, Suite 206A Miami, FL 33143
046579 | Dickson Chemical Company, Inc. 2110 S Prairie St. Stuttgart, AR 72160
046813 | K-G Packaging Company 316 Highland Ave Hartford, WI 53027
047000 | Chem-Tech, LTD. 4515 Fleur Dr. 303 Des Moines, IA 50321
048668 | Professional Pet Products 1873 N.W. 97th Ave. Miami, FL 33172
053883 | Control Solutions Inc. 427 Hide Away Circle Cub Run, KY 42729
067517 | PM Resources, Inc. 13001 Saint Charles Rock Rd. Bridgeton, MO 63044
073049 | Valent BioSciences Corporation 870 Technology Way Libertyville, IL 60048
074621 | Bug Stomper II, LLC P.O. Box 704 Springhill, LA 71075
081038 | ICR Labs., 1330 Dillon Heights Ave. Baltimore, MD 21228-1199
082277 | Earthfire Corp. P.O. Box 12398 Scottdsdale, AZ 85267
FL910017 | Lee County Mosquito Control District P.O. Box 60005 Fort Meyers, FL 33096

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The resmethrin registrants have not requested that EPA waive the 180-day comment period. Accordingly, EPA will provide a 180-day comment period on the proposed requests.

V. Procedures for Withdrawal of Requests

Registrants who choose to withdraw a request for product cancellation should submit the withdrawal in writing to the person listed under FOR FURTHER INFORMATION CONTACT. If the products(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the request(s) for voluntary cancellation are granted, the Agency intends to publish the cancellation order in the Federal Register.

In any order issued in response to these requests for cancellation of product registrations, EPA proposes to include the following provisions for the treatment of any existing stocks of the products listed in Table 2.

After December 31, 2012, registrants are prohibited from formulating, selling, or distributing existing stocks of products containing resmethrin for all uses, including the use of resmethrin as a wide area mosquito abatement insecticide.

Persons other than the registrant may sell, distribute, or use existing stocks of canceled products until supplies are exhausted, provided that such sale, distribution, or use is consistent with the terms of the previously approved labeling on, or that accompanied, the canceled products.

List of Subjects

Environmental protection, Pesticides and pests.

Dated: August 19, 2010.
Peter Caulkins,
Acting Director, Pesticide Re-evaluation Division, Office of Pesticide Programs.

[FR Doc. 2010-21143 Filed 8-24-10; 8:45 am]

BILLING CODE 6560-50-S